DEPARTMENT OF THE INTERIOR

Bureau of Land Management

[OR-038-1220-AL; HAG 06-0011]

Notice of Call for Nominations for the National Historic Oregon Trail Interpretive Center Advisory Board

AGENCY: Bureau of Land Management, Department of the Interior.

ACTION: Call for nominations.

SUMMARY: The Bureau of Land Management is requesting public nominations to fill an unexpired term on the National Historic Oregon Trail Interpretive Center Advisory Board. The National Historic Oregon Trail Interpretive Center Advisory Board provides advice regarding management, use, and further development of the National Historic Oregon Trail Interpretive Center. The Bureau of Land Management will consider public nominations until January 17, 2006.

DATES: Send all nominations to the address listed below no later than January 17, 2006.

ADDRESSES: See SUPPLEMENTARY INFORMATION for the location to send nominations.

FOR FURTHER INFORMATION CONTACT: Pam Robbins, Bureau of Land Management, P.O. Box 2965, Portland, Oregon 97208, (503) 808-6306, e-mail: pam_robbins@blm.gov.

SUPPLEMENTARY INFORMATION: The Federal Land Policy and Management Act (43 U.S.C. 1730) directs the Secretary of the Interior to involve the public in planning and issues related to management of lands administered by the Bureau of Land Management. The National Historic Oregon Trail Interpretive Center Advisory Board is a citizen-based advisory council that is consistent with the requirements of the Federal Advisory Committee Act. Members serve without monetary compensation, but will be reimbursed for travel and per diem expenses at current rates for government employees. As required by the Federal Advisory Committee Act, board membership must be balanced and representative of the various interests concerned with the management of public lands. The unexpired term to be filled is a representative of trail advocacy groups. The term expiration is December 29, 2006. Individuals may nominate themselves or others to serve on the National Historic Oregon Trail Interpretive Center Advisory Board. Nominees must be residents of Oregon. The Bureau of Land Management will evaluate nominees in coordination with the Governor of the State of Oregon, based on their education, training, and experience and their knowledge of the National Historic Oregon Trail Interpretive Center. The Bureau of Land Management will forward recommended nominations to the Secretary of the Interior, who has responsibility for making the appointments. The following must accompany all nominations:

—Letters of reference from trail advocacy group(s),

—A completed background information nomination form,

—Any other information that speaks to the nominee's qualifications.

Nomination forms are available from Pam Robbins, P.O. Box 2965, 333 SW., First Avenue, Portland, Oregon 97208-2965, (503) 808-6306, email: pam_robbins@blm.gov. Completed applications should be sent to the same address.

Dated: October 20, 2005.
David R. Henderson,
Vale District Manager, OR/WA BLM.

[FR Doc. E5-6777 Filed 12-1-05; 8:45 am]

BILLING CODE 4310-33-P